DEPARTMENT OF TRANSPORTATION

Federal Aviation Administration

Proposed Advisory Circular; Turbine Rotor Strength Requirements

AGENCY: Federal Aviation Administration, DOT.

ACTION: Notice of availability of proposed advisory circular and request for comments.

SUMMARY: The Federal Aviation Administration (FAA) announces the availability of proposed advisory circular (AC) Number 33.27-1, Turbine Rotor Strength Requirements of 14 CFR 33.27.

DATES: Comments must be received on or before August 1, 2003.

ADDRESSES: Send all comments on the proposed AC to the Federal Aviation Administration, Attn: Tim Mouzakis, Engine and Propeller Standards Staff, ANE-110, 12 New England Executive Park, Burlington, MA 01803-5299.

FOR FURTHER INFORMATION CONTACT: Tim Mouzakis, Engine and Propeller Standards Staff, ANE-110, at the above address; telephone: (781) 238-7114; fax: (781) 238-7199; e-mail: timoleon.mouzakis@faa.gov.

SUPPLEMENTARY INFORMATION:

Comments Invited

A copy of the subject AC may be obtained by contacting the person named under FOR FURTHER INFORMATION CONTACT or by donwloading the proposed AC from the following Internet Web site: http://www.airweb.faa.gov/rgl. The FAA invites interested parties to comment on the proposed AC. Comments should identify the subject of the AC and be submitted to the individual identified under FOR FURTHER INFORMATION CONTACT. The FAA will consider all communications received by the closing date before issuing the final AC.

Background

This AC provides guidance and acceptable methods, but not the only methods, for demonstrating compliance with the rotor strength (overspeed) requirements of § 33.27 of title 14 of the Code of Federal Regulations (14 CFR 33.27).

(Authority: 49 U.S.C. 106(g), 40113, 44701-44702, 44704.)

Issued in Burlington, Massachusetts, on June 11, 2003.
Peter A. White,
Acting Manager, Engine and Propeller Directorate, Aircraft Certification Service.

[FR Doc. 03-15402 Filed 6-17-03; 8:45 am]

BILLING CODE 4910-13-M